DEPARTMENT OF DEFENSE

[Docket ID DOD-2011-OS-0036]

2 CFR Chapter XI

5 CFR Chapter XXVI

32 CFR Chapters I, V, VI, VII, XII, and Subtitle A

33 CFR Chapter II

36 CFR Chapter III

40 CFR Chapter VII

48 CFR Chapters 1, 2, 52, and 54

Reducing Regulatory Burden; Retrospective Review Under E.O. 13563

AGENCY: Office of the Secretary, DoD.

ACTION: Request for information.

SUMMARY: As part of its implementation of Executive Order 13563, “Improving Regulation and Regulatory Review,” issued by the President on January 18, 2011, the Department of Defense is seeking comments and information from interested parties to assist DoD in reviewing its existing regulations to determine whether any such regulations should be modified, streamlined, expanded, or repealed. The purpose of the Department's review is to make the agency's regulatory program more effective and less burdensome in achieving its regulatory objectives. The Department of Defense will continue to work with the public and the business community to determine how its regulations can increase efficiency, transparency, and provide accountability.

DATES: Comments are requested by July 6, 2011.

ADDRESSES: You may submit comments, identified by docket number and title, by any of the following methods:

Federal Rulemaking Portal: http://www.regulations.gov. Follow the instructions for submitting comments.

Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Robert Cushing, Jr., 703-696-5282.

SUPPLEMENTARY INFORMATION: Executive Order 13563 recognizes the importance of maintaining a consistent culture of retrospective review and analysis throughout the executive branch. Pursuant to the Executive Order, the Department of Defense (DoD) is developing a preliminary plan for the periodic review of its existing regulations and reporting obligations. DoD's plan is designed to create a defined method and schedule for identifying certain significant rules that are obsolete, unnecessary, unjustified, excessively burdensome, or counterproductive. Its review processes are intended to facilitate the identification of rules that warrant repeal or modification, or strengthening, complementing, or modernizing rules where necessary or appropriate. The preliminary plan, along with this request for information and previously received public comments, will be available on http://www.regulations.gov for public comment in the docket DOD-2011-OS-0036.

The Department of Defense is committed to the principles of retrospective analysis in order to improve the effectiveness of the implementation of its regulations, improve transparency in the regulatory process through public participation, and to provide transparent documentation of its analysis. Consistent with the Department's commitment to public participation in the rulemaking process, the Department is soliciting views from the public on how best to conduct its analysis of existing DoD rules and how best to identify those rules that might be modified, streamlined, expanded, or repealed. It is also seeking views from the public on specific rules or Department-imposed obligations that should be altered or eliminated. DoD regulations may be viewed by going to the eCFR at http://ecfr.gpoaccess.gov and searching titles 2, 5, 32, 33, 36, 40, and/or 48.

The Department notes that this request for information is issued solely for information and program-planning purposes. While responses to this request do not bind the Department of Defense to any further actions related to the response, all submissions will be made publically available on http://www.regulations.gov.

Dated: May 27, 2011.
Aaron Siegel,
Alternate OSD Federal Register Liaison Officer, Department of Defense.

[FR Doc. 2011-13765 Filed 6-3-11; 8:45 am]

BILLING CODE 5001-06-P